DEPARTMENT OF TRANSPORTATION

Federal Aviation Administration

14 CFR Part 71

[Docket No. FAA-2015-0368; Airspace Docket No. 14-ACE-9]

Amendment of Class E Airspace for the Following Iowa Towns: Audubon, IA; Corning, IA; Cresco, IA; Eagle Grove, IA; Guthrie Center, IA; Hampton, IA; Harlan, IA; Iowa Falls, IA; Knoxville, IA; Oelwein, IA; and Red Oak, IA

AGENCY: Federal Aviation Administration (FAA), DOT.

ACTION: Final rule.

SUMMARY: This action amends Class E airspace at Audubon County Airport, Audubon, IA; Corning Municipal Airport, Corning, IA; Ellen Church Field Airport, Cresco, IA; Eagle Grove Municipal Airport, Eagle Grove, IA; Guthrie County Regional Airport, Guthrie Center, IA; Hampton Municipal Airport, Hampton, IA; Harlan Municipal Airport, Harlan, IA; Iowa Falls Municipal Airport, Iowa Falls, IA; Knoxville Municipal Airport, Knoxville, IA; Oelwein Municipal Airport, Oelwein, IA; and Red Oak Municipal Airport, Red Oak, IA. Decommissioning of the non-directional radio beacons (NDBs) and/or cancellation of NDB approaches due to advances in Global Positioning System (GPS) capabilities has made this action necessary for the safety and management of Instrument Flight Rules (IFR) operations at the above airports.

DATES: Effective 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points, and subsequent amendments can be viewed on line at http://www.faa.gov/airtraffic/publications/. For further information, you can contact the Airspace Policy and ATC Regulations Group, Federal Aviation Administration, 800 Independence Avenue SW., Washington, DC, 29591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Roger P. Waite, Operations Support Group, Central Service Center, Federal Aviation Administration, Southwest Region, 10101 Hillwood Parkway, Fort Worth, TX 76177; telephone: (817) 868-2929.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it amends Class E airspace at the Iowa airports listed in this final rule.

History

On May 12th, 2015, the FAA published in the Federal Register a notice of proposed rulemaking (NPRM) to amend Class E airspace extending upward from 700 feet above the surface at Audubon County Airport, Audubon, IA; Corning Municipal Airport, Corning, IA; Ellen Church Field Airport, Cresco, IA; Eagle Grove Municipal Airport, Eagle Grove, IA; Guthrie County Regional Airport, Guthrie Center, IA; Hampton Municipal Airport, Hampton, IA; Harlan Municipal Airport, Harlan, IA; Iowa Falls Municipal Airport, Iowa Falls, IA; Knoxville Municipal Airport, Knoxville, IA; Oelwein Municipal Airport, Oelwein, IA; and Red Oak Municipal Airport, Red Oak, IA. (80 FR 27119). Interested parties were invited to participate in this rulemaking effort by submitting written comments on the proposal to the FAA. No comments were received.

Class E airspace designations are published in paragraph 6005 of FAA Order 7400.9Z dated August 6, 2015, and effective September 15, 2015, which is incorporated by reference in 14 CFR part 71.1. The Class E airspace designations listed in this document will be published subsequently in the Order.

Availability and Summary of Documents for Incorporation by Reference

This document amends FAA Order 7400.9Z, airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 amends Class E airspace extending upward from 700 feet above the surface for new standard instrument approach procedures (SIAPs) at Audubon County Airport, Audubon, IA; Corning Municipal Airport, Corning, IA; Ellen Church Field Airport, Cresco, IA; Eagle Grove Municipal Airport, Eagle Grove, IA; Guthrie County Regional Airport, Guthrie Center, IA; Hampton Municipal Airport, Hampton, IA; Harlan Municipal Airport, Harlan, IA; Iowa Falls Municipal Airport, Iowa Falls, IA; Knoxville Municipal Airport, Knoxville, IA; Oelwein Municipal Airport, Oelwein, IA; and Red Oak Municipal Red Oak, IA. Airspace reconfiguration is necessary due to the decommissioning of NDBs and/or the cancellation of the NDB approach at each airport. Controlled airspace is necessary for the safety and management of IFR operations at the airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exists that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

Paragraph 6005 Class E Airspace Areas Extending Upward From 700 Feet or More Above the Surface of the Earth

* * * * *

ACE IA E5 Audubon, IA [Amended]

Audubon County Airport, IA

(Lat. 41°42′06″ N., long. 94°55′14″ W.)

That airspace extending upward from 700 feet above the surface within a 6.4-mile radius of the Audubon County Airport.

* * * * *

ACE IA E5 Corning IA [Amended]

Corning Municipal Airport, IA

(Lat. 40°59′39″ N., long. 94°45′18″ W.)

That airspace extending upward from 700 feet above the surface within a 6.3-mile radius of Corning Municipal Airport.

* * * * *

ACE IA E5 Cresco, IA [Amended]

Ellen Church Field Airport, IA

(Lat. 43°21′55″ N., long. 92°07′59″ W.)

That airspace extending upward from 700 feet above the surface within a 6.3-mile radius of Ellen Church Field Airport.

* * * * *

ACE IA E5 Eagle Grove, IA [Amended]

Eagle Grove Municipal Airport, IA

(Lat. 42°42′36″ N., long 93°54′58″ W.)

That airspace extending upward from 700 feet above the surface within a 6.4-mile radius of the Eagle Grove Municipal Airport.

* * * * *

ACE IA E5 Guthrie Center, IA [Amended]

Guthrie County Regional Airport, IA

(Lat. 41°41′13″ N., long. 94°26′06″ W.)

That airspace extending upward from 700 feet above the surface within a 6.4-mile radius of the Guthrie County Regional Airport.

* * * * *

ACE IA E5 Hampton, IA [Amended]

Hampton Municipal Airport, IA

(Lat. 42°43′25″ N., long. 93°13′35″ W.)

That airspace extending upward from 700 feet above the surface within a 6.4-mile radius of Hampton Municipal Airport.

* * * * *

ACE IA E5 Harlan, IA [Amended]

Harlan Municipal Airport, IA

(Lat. 41°35′04″ N., long. 95°20′23″ W.)

That airspace extending upward from 700 feet above the surface within a 6.4-mile radius of Harlan Municipal Airport.

* * * * *

ACE IA E5 Iowa Falls, IA [Amended]

Iowa Falls Municipal Airport, IA

(Lat. 42°28′17″ N., long. 93°16′15″ W.)

That airspace extending upward from 700 feet above the surface within a 6.3-mile radius of Iowa Falls Municipal Airport.

* * * * *

ACE IA E5 Knoxville, IA [Amended]

Knoxville Municipal Airport, IA

(Lat. 41°17′57″ N., long. 93°06′50″ W.)

That airspace extending upward from 700 feet above the surface within a 6.8-mile radius of Knoxville Municipal Airport.

* * * * *

ACE IA E5 Oelwein, IA [Amended]

Oelwein Municipal Airport, IA

(Lat. 42°40′51″ N., long. 91°58′28″ W.)

That airspace extending upward from 700 feet above the surface within a 7.3-mile radius of Oelwein Municipal Airport.

* * * * *

ACE IA E5 Red Oak, IA [Amended]

Red Oak Municipal Airport, IA

(Lat. 41°00′39″ N., long. 95°15′32″ W.)

That airspace extending upward from 700 feet above the surface within a 6.4-mile radius of Red Oak Municipal Airport; and within 2 miles each side of the 354° bearing from the airport extending from the 6.4-mile radius to 11 miles north of the airport.

Issued in Fort Worth, TX, on September 23, 2015.
Vonnie L. Royal,
Acting Manager, Operations Support Group, ATO Central Service Center.

[FR Doc. 2015-25083 Filed 10-5-15; 8:45 am]

BILLING CODE 4910-13-P